DEPARTMENT OF EDUCATION

[CFDA No.: 84.359B]

Early Reading First Program

AGENCY: Department of Education.

ACTION: Notice reopening the Early Reading First Program grant competition for fiscal year (FY) 2002 to extend the Full Application deadline date.

SUMMARY: The Secretary reopens the Early Reading First Program grant competition for FY 2002 to extend the deadline date for the submission of Full Applications. The Secretary takes this action because of delivery problems due to unexpected traffic stoppages in the Washington, DC area on the original receipt deadline of Friday, October 11.

Eligibility: This extension applies to all eligible applicants for the Full Application phase of the Early Reading First grant competition for FY 2002.

DATES: The original receipt deadline for Full Applications under the Early Reading First Program for FY 2002 was Friday, October 11, 2002. However, the Washington, DC area experienced significant traffic disruptions on that date, including the closure of major highways into the area.

Therefore, the Department extends the receipt deadline for Full Applications and reopens the competition for a very short time to address this situation.

The new deadline for receipt of Full Applications under the Early Reading First Program for FY 2002 is Tuesday, October 22, 2002 (including for certain applicants from Louisiana, as discussed later under this heading). If you or a courier or delivery service deliver an application by hand, the deadline is at 4:30 p.m. on October 22. The October 22 deadline replaces the original October 11, 2002 receipt deadline for Full Applications.

All other instructions for transmitting applications in the Early Reading First application package (pp. E-3 and E-4) remain in effect. The deadline date for the transmittal of State process recommendations by State Single Points of Contact (SPOCs) and comments by other interested parties remains as originally posted.

An extension notice for certain applicants from Louisiana submitting Full Applications was published in the Federal Register on October 11, 2002 (67 FR 63390), under which the receipt deadline was extended to Friday, October 18, 2002, due to Tropical Storm Lili. The extension in this notice to Tuesday, October 22, 2002, also applies to those Louisiana applicants.

The original notice inviting applications (for both Pre-Applications and Full Applications) was published in the Federal Register on June 7, 2002 (67 FR 39369-39374).

FOR FURTHER INFORMATION CONTACT: Tracy Bethel or Mary Ann Lesiak, Office of Elementary and Secondary Education, 400 Maryland Avenue SW., Washington, DC 20202-6132. Telephone: (202) 260-4555, or via Internet: erf@ed.gov. Applications for, and information about, the Early Reading First program competition are available here: http://www.ed.gov/offices/OESE/earlyreading/index.html.

If you use a telecommunications device for the deaf (TDD), you may call the Federal Information Relay Service (FIRS) at 1-800-877-8339.

If you want to transmit a recommendation or comment under Executive Order 12372, you can find the latest list and addresses of individual SPOCs on the Web site of the Office of Management and Budget at the following address: http://www.whitehouse.gov/omb/grants.

If you are an individual with a disability, you may obtain this document in an alternative format (e.g., Braille, large print, audiotape, or computer diskette) on request to either of the contact persons listed in this notice.

Electronic Access to This Document

You may view this document, as well as all other Department of Education documents published in the Federal Register, in text or Adobe Portable Document Format (PDF) on the Internet at the following site: http://www.ed.gov/legislation/FedRegister.

To use PDF you must have Adobe Acrobat Reader, which is available free at this site. If you have questions about using PDF, call the U.S. Government Printing Office (GPO), toll free, at 1-888-293-6498; or in the Washington, DC area at (202) 512-1530.

Note: The official version of this document is the document published in the Federal Register. Free Internet access to the official edition of the Federal Register and the Code of Federal Regulations is available on GPO Access at: http://www.access.gpo.gov/nara/index.html.

Dated: October 17, 2002.
Susan B. Neuman,
Assistant Secretary for Elementary and Secondary Education.

[FR Doc. 02-26868 Filed 10-18-02; 8:45 am]

BILLING CODE 4000-01-P